DEPARTMENT OF ENERGY

Federal Energy Regulatory Commission

[Project No. 2225-015—WA]

Sullivan Creek Project, Public Utility District No 1 of Pend Oreille County; Notice of Teleconference

a. Date and Time of Meeting: Monday, November 21, 2011 at 10:30 a.m. (Pacific Time).

b. Place: By copy of this notice we are inviting all interested parties to attend a teleconference from their location.

c. FERC Contact: Frank Winchell, (202) 502-6104: frank.winchell@ferc.gov.

d. Purpose of the Meeting: Commission staff will be meeting with the Pend Oreille PUD, Forest Service, Washington State Historic Preservation Office, Advisory Council on Historic Preservation, and Kalispel Tribe to go over associated memorandum of agreements for cultural resources.

e. All local, State, and Federal agencies, Indian tribes, and interested parties are hereby invited to listen in on the teleconference. The phone number and passcode to the teleconference will be provided upon a request made by interested parties to Frank Winchell. All requests for the teleconference phone number and passcode must be made No Later Than 1:30 p.m. (Pacific Time), November 16, 2011.

Dated: November 3, 2011.
Kimberly D. Bose,
Secretary.

[FR Doc. 2011-29245 Filed 11-10-11; 8:45 am]

BILLING CODE 6717-01-P